DEPARTMENT OF JUSTICE

Notice of Lodging of Proposed Consent Decree Under the Safe Drinking Water Act

On September 26, 2013, the Department of Justice lodged a proposed Consent Decree with the United States District Court for the District of Montana, Great Falls Division, in the lawsuit entitled United States v. Gros Ventre and Assiniboine Tribes of the Fort Belknap Indian Community, and Prairie Mountain Utility, Civil Action No. CV-13-82-GF-DLC-RKS (SLR).

In this action the United States filed a complaint and consent decree concurrently seeking injunctive relief and civil penalties pursuant to 42 U.S.C. 300g-3,300i of the Safe Drinking Water Act (“SDWA”) for violations at five public water systems owned and/or operated by the Fort Belknap Indian Community and the Prairie Mountain Utility (“PMU”) and within the exterior boundaries of the Fort Belknap Indian Reservation (“Reservation”) in Blaine and Phillips Counties, Montana. The proposed Decree requires Defendants to undertake a restructuring of the responsibilities of the PMU and tribal government, and implement a series of changes in operation of the PMU to ensure proper operation of the drinking water systems on the Reservation. The Defendants are also required pay to the United States civil penalties of $1,500.00 within thirty (30) days of the entry of the Decree.

The publication of this notice opens a period for public comment on the Consent Decree. Comments should be addressed to the Assistant Attorney General, Environment and Natural Resources Division, and should refer to United States v. Gros Ventre and Assiniboine Tribes of the Fort Belknap Indian Community, and Prairie Mountain Utility, D.J. Ref. No. 90-5-1-1-09823. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $10.75 (25 cents per page reproduction cost) payable to the United States Treasury.

Robert Brook,
Assistant Section Chief, Environmental Enforcement Section, Environment and Natural Resources Division.

[FR Doc. 2013-24270 Filed 10-3-13; 8:45 am]

BILLING CODE 4410-15-P